DEPARTMENT OF THE TREASURY

Internal Revenue Service

26 CFR Part 1

[TD 9530]

RIN 1545-BH56

Guidance Under Section 956 for Determining the Basis of Property Acquired in Certain Nonrecognition Transactions; Correction

AGENCY: Internal Revenue Service (IRS), Treasury.

ACTION: Correction to final and temporary regulations.

SUMMARY: This document describes a correction to final and temporary regulations (TD 9530) that were published in the Federal Register on Friday, June 24, 2011, regarding the determination of basis in certain United States property acquired by a controlled foreign corporation in certain nonrecognition transactions that are intended to repatriate earnings and profits of the controlled foreign corporation without U.S. income taxation.

DATES: This correction is effective on July 22, 2011, and is applicable beginning June 24, 2011.

FOR FURTHER INFORMATION CONTACT: Kristine A. Crabtree, (202) 622-3840 (not a toll-free number).

SUPPLEMENTARY INFORMATION:

Background

The final and temporary regulations that are the subject of this correction are under section 956 of the Internal Revenue Code.

Need for Correction

As published at (76 FR 36993), final and temporary regulations (TD 9530) contain an error that may prove to be misleading and is in need of clarification.

Correction of Publication

Accordingly, the publication of the final and temporary regulations (TD 9530) which were the subject of FR Doc. 2011-15741 is corrected as follows:

On page 36995, column 3, in the signature block, line 5, the name “Emily S. Mahon” is corrected to read “Emily S. McMahon”.

LaNita Van Dyke,
Chief, Publications and Regulations Branch, Legal Processing Division, Associate Chief Counsel, Procedure and Administration.

[FR Doc. 2011-18469 Filed 7-21-11; 8:45 am]

BILLING CODE 4830-01-P